DEPARTMENT OF ENERGY

Federal Energy Regulatory Commission

[Docket No. RP00-2-006]

Overthrust Pipeline Company; Notice of Compliance Filing

December 11, 2002.

Take notice that on December 6, 2002, Overthrust Pipeline Company (Overthrust) tendered for filing as part of its FERC Gas Tariff, First Revised Volume No. 1-A, Ninth Revised Sheet No. 70, to be effective January 1, 2003.

Overthrust states that the filing is being made in compliance with Commission letter order issued July 13, 2000, in Docket No. RP00-2-000.

Overthrust states that by letter order issued July 13, 2000, the Commission approved the March 24, 2000, settlement of its rate case in Docket No. RP00-2-000.

Overthrust states that paragraph III.A.(3)(b) of the settlement provided that effective January 1, 2003, the Interruptible Revenue Sharing provision of Overthrust's General Terms and Conditions would be modified so that 50% rather than 100% of interruptible revenues would be shared annually rather than monthly and only if the total of all firm and interruptible revenues exceed $4,689,819 annually.

Further, Overthrust states that Ninth Revised Sheet No. 70 submitted with its filing implements the modified Interruptible Revenue Sharing provision in the manner set forth on the tariff sheet attached as Appendix A to the settlement, with one minor clarification regarding the annual nature of the revised provision.

Overthrust states that a copy of this filing has been served upon Overthrust's customers, the Public Service Commission of Utah and the Public Service Commission of Wyoming.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31727 Filed 12-17-02; 8:45 am]

BILLING CODE 6717-01-P